ENVIRONMENTAL PROTECTION AGENCY

40 CFR Part 180

[EPA-HQ-OPP-2021-0388; FRL-9952-01-OCSPP]

Tribenuron Methyl; Pesticide Tolerances

AGENCY: Environmental Protection Agency (EPA).

ACTION: Final rule.

SUMMARY: This regulation establishes tolerances for residues of tribenuron methyl in or on multiple commodities that are identified and discussed later in this document. Interregional Research Project Number 4 (IR-4) requested these tolerances under the Federal Food Drug and Cosmetic Act (FFDCA).

DATES: This regulation is effective July 15, 2022. Objections and request for hearings must be received on or before September 13, 2022, and must be filed in accordance with the instructions provided in 40 CFR part 178 (see also Unit I.C. of the SUPPLEMENTARY INFORMATION).

ADDRESSES: The docket for this action, identified by docket identification (ID) number EPA-HQ-OPP-2021-0388, is available online at https://www.regulations.gov or in-person at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room and OPP Docket is (202) 566-1744.

FOR FURTHER INFORMATION CONTACT: Marietta Echeverria, Registration Division (7505T), Office of Pesticide Programs, Environmental Protection Agency, 1200 Pennsylvania Ave. NW, Washington, DC 20460-0001; main telephone number: (202) 566-1030; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. How can I get electronic access to other related information?

You may access a frequently updated electronic version of EPA's tolerance regulations at 40 CFR part 180 through the Office of the Federal Register's e-CFR site at https://www.ecfr.gov/current/title-40.

C. How can I file an objection or hearing request?

Under FFDCA section 408(g), 21 U.S.C. 346a, any person may file an objection to any aspect of this regulation and may also request a hearing on those objections. You must file your objection or request a hearing on this regulation in accordance with the instructions provided in 40 CFR part 178. To ensure proper receipt by EPA, you must identify docket ID number EPA-HQ-OPP-2021-0388 in the subject line on the first page of your submission. All objections and requests for a hearing must be in writing and must be received by the Hearing Clerk on or before September 13, 2022. Addresses for mail and hand delivery of objections and hearing requests are provided in 40 CFR 178.25(b).

In addition to filing an objection or hearing request with the Hearing Clerk as described in 40 CFR part 178, please submit a copy of the filing (excluding any Confidential Business Information (CBI)) for inclusion in the public docket. Information not marked confidential pursuant to 40 CFR part 2 may be disclosed publicly by EPA without prior notice. Submit the non-CBI copy of your objection or hearing request, identified by docket ID number EPA-HQ-OPP-2021-0388, by one of the following methods:

• Federal eRulemaking Portal: https://www.regulations.gov. Follow the online instructions for submitting comments. Do not submit electronically any information you consider to be CBI or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/contacts.html.

Additional instructions on commenting or visiting the docket, along with more information about dockets generally, is available at https://www.epa.gov/dockets.

II. Summary of Petitioned-For Tolerance

In the Federal Register of October 21, 2021 (86 FR 58239) (FRL-8792-04), EPA issued a document pursuant to FFDCA section 408(d)(3), 21 U.S.C. 346a(d)(3), announcing the filing of pesticide petition (PP 1E8898) by Interregional Research Project No. 4 (IR-4), North Carolina State University, 1730 Varsity Drive, Venture IV, Suite 210, Raleigh, NC 27606. The petition requested EPA to establish tolerances in 40 CRF part 180 for residues of tribenuron methyl (methyl-2-[[[[N-(4-methoxy-6-methyl-1,3,5-triazin-2-yl) methylamino] carbonyl] amino] sulfonyl] benzoate) and its metabolites and degradates in or on 242 separate commodities and to revise the tolerance for residues of tribenuron methyl in or on oat, hay. Due to the length of the list of commodities, please refer to the Notice of Filing referenced above for a complete list of commodities with tolerances to be established. The petition requested to remove the established tolerances for residues of tribenuron methyl and its metabolites and degradates, in or on the following raw agricultural commodities: Canola, seed at 0.02 ppm; Cotton, gin byproducts at 0.02 ppm; Cotton, undelinted seed at 0.02 ppm; and Flax, seed at 0.02 ppm. That document referenced a summary of the petition prepared by FMC, the registrant, which is available in the docket, https://www.regulations.gov. No relevant comments were received in response to the Notice of Filing.

Based upon review of the data supporting the petition, EPA is modifying many of the commodity definitions to be consistent with Agency nomenclature. The reasons for these changes are explained in Unit IV.C.

III. Aggregate Risk Assessment and Determination of Safety

Section 408(b)(2)(A)(i) of FFDCA allows EPA to establish a tolerance (the legal limit for a pesticide chemical residue in or on a food) only if EPA determines that the tolerance is “safe.” Section 408(b)(2)(A)(ii) of FFDCA defines “safe” to mean that “there is a reasonable certainty that no harm will result from aggregate exposure to the pesticide chemical residue, including all anticipated dietary exposures and all other exposures for which there is reliable information.” This includes exposure through drinking water and in residential settings but does not include occupational exposure. Section 408(b)(2)(C) of FFDCA requires EPA to give special consideration to exposure of infants and children to the pesticide chemical residue in establishing a tolerance and to “ensure that there is a reasonable certainty that no harm will result to infants and children from aggregate exposure to the pesticide chemical residue. . . .”

Consistent with FFDCA section 408(b)(2)(D), and the factors specified in FFDCA section 408(b)(2)(D), EPA has reviewed the available scientific data and other relevant information in support of this action. EPA has sufficient data to assess the hazards of and to make a determination on aggregate exposure for tribenuron methyl including exposure resulting from the tolerances established by this action. EPA's assessment of exposure and risk associated with tribenuron methyl follows.

A. Toxicological Profile

EPA has evaluated the available toxicity data and considered its validity, completeness, and reliability as well as the relationship of the results of the studies to human risk. EPA has also considered available information concerning the variability of the sensitivities of major identifiable subgroups of consumers, including infants and children.

Changes in body weights and organ weights were the most commonly observed effects in toxicity studies with tribenuron methyl. A particular target organ was not identified. Effects in subchronic oral studies were limited to body weight and organ weight changes, while chronic exposure resulted in more severe effects on the pancreas, spleen, kidneys, and reproductive organs. In developmental and reproduction toxicity studies, developmental/reproductive effects were observed in the presence of comparable maternal/parental toxicity; therefore, there is no concern for pre- and/or postnatal susceptibility.

Tribenuron methyl is classified as a Group C “Possible Human Carcinogen” due to the observation of mammary gland adenocarcinomas in females in the chronic rat study. The point of departure (POD) for establishing the chronic reference dose (RfD) (0.8 mg/kg/day) is 95-fold lower than the lowest dose at which tumors were observed (76 mg/kg/day) and is therefore considered protective of any potential carcinogenicity. Based on the Agency's current practices, a quantitative cancer assessment was not conducted.

Specific information on the studies received and the nature of the adverse effects caused by tribenuron methyl as well as the no-observed-adverse-effect-level (NOAEL) and the lowest-observed-adverse-effect-level (LOAEL) from the toxicity studies can be found at https://www.regulations.gov in the document titled “Tribenuron methyl. Human Health Risk Assessment for New Uses on the Individual Commodities in Proposed Subgroup 6-XXE, Dried Shelled Bean, Proposed Subgroup 6-XXF, Dried Shelled Pea as well as the Crop Group Expansions for Rapeseed Subgroup 20A, Cottonseed Subgroup 20C and the Individual Commodities in Proposed Wheat Subgroup 15-20A, Proposed Barley Subgroup 15-20B, Proposed Field Corn Subgroup 15-20C, Proposed Grain Sorghum and Millet Subgroup 15-20E, and Proposed Rice Subgroup 15-20F.” (hereinafter “Tribenuron Human Health Risk Assessment”) on pages 40-44 in docket ID number EPA-HQ-OPP-2021-0388.

B. Toxicological Points of Departure/Levels of Concern.

Once a pesticide's toxicological profile is determined, EPA identifies toxicological points of departure (POD) and levels of concern to use in evaluating the risk posed by human exposure to the pesticide. For hazards that have a threshold below which there is no appreciable risk, the toxicological POD is used as the basis for derivation of reference values for risk assessment. PODs are developed based on a careful analysis of the doses in each toxicological study to determine the dose at which no adverse effects are observed (the NOAEL) and the lowest dose at which adverse effects are identified (the LOAEL). Uncertainty/safety factors are used in conjunction with the POD to calculate a safe exposure level—generally referred to as a population-adjusted dose (PAD) or a reference dose (RfD)—and a safe margin of exposure (MOE). For non-threshold risks, the Agency assumes that any amount of exposure will lead to some degree of risk. Thus, the Agency estimates risk in terms of the probability of an occurrence of the adverse effect expected in a lifetime. For more information on the general principles EPA uses in risk characterization and a complete description of the risk assessment process, see https://www.epa.gov/pesticide-science-and-assessing-pesticide-risks/assessing-human-health-risk-pesticides.

A summary of the toxicological endpoints and PODs for tribenuron methyl used for human risk assessment can be found in the Tribenuron Methyl Human Health Risk Assessment on pages 24-26.

C. Exposure Assessment

1. Dietary exposure from food and feed uses. In evaluating dietary exposure to tribenuron methyl, EPA considered exposure under the petitioned-for tolerances as well as all existing tolerances for tribenuron methyl in 40 CFR 180.451. EPA assessed dietary exposures from tribenuron methyl in food as follows:

i. Acute exposure. Quantitative acute dietary exposure and risk assessments are performed for a food-use pesticide if a toxicological study has indicated the possibility of an effect of concern occurring as a result of a 1-day or single exposure. Such effects were identified for tribenuron methyl.

In conducting the acute dietary exposure assessment, EPA used the 2005-2010 food consumption data from the U.S. Department of Agriculture's (USDA) National Health and Nutrition Examination Survey, What We Eat in America (NHANES/WWEIA). The acute dietary exposure assessment assumes tolerance-level residues and 100% crop treated (100 PCT) for all commodities and incorporates default processing factors.

ii. Chronic exposure. In conducting the chronic dietary exposure assessment, EPA used the 2005-2010 food consumption data from the USDA NHANES/WWEIA. The chronic dietary exposure assessment assumes tolerance-level residues and 100 PCT for all commodities and incorporates default processing factors.

iii. Cancer. Tribenuron methyl is classified as a Group C “Possible Human Carcinogen.” EPA determined that the reference dose approach used for chronic dietary exposure assessment is adequately protective of all chronic toxicity, including carcinogenicity, that could result from exposure to tribenuron methyl. Therefore, a separate cancer dietary risk assessment was not required.

iv. Anticipated residue and PCT information. EPA did not use anticipated residue and/or PCT information in the dietary assessment for tribenuron methyl. Tolerance level residues and 100 PCT were assumed for all food commodities.

2. Dietary exposure from drinking water. The Agency used screening level water exposure models in the dietary exposure analysis and risk assessment for tribenuron methyl in drinking water. These simulation models take into account data on the physical, chemical, and fate/transport characteristics of tribenuron methyl. Further information regarding EPA drinking water models used in pesticide exposure assessment can be found at https://www2.epa.gov/pesticide-science-and-assessing-pesticide-risks/about-water-exposure-models-used-pesticide.

Based on the Pesticide Root Zone Model for Groundwater (PRZM-GW; v.1.07), the estimated drinking water concentrations (EDWCs) of tribenuron methyl are 35 ppb for acute dietary exposures and 23 ppb for chronic dietary exposures. These modeled estimates of drinking water concentrations were directly entered into the dietary exposure model.

3. From non-dietary exposure. The term “residential exposure” is used in this document to refer to non-occupational, non-dietary exposure (e.g., for lawn and garden pest control, indoor pest control, termiticides, and flea and tick control on pets). Tribenuron methyl is not registered for any specific use patterns that would result in residential exposure, and the new uses would not result in residential exposure.

4. Cumulative exposure. Section 408(b)(2)(D)(v) of FFDCA requires that, when considering whether to establish, modify, or revoke a tolerance, the Agency consider “available information” concerning the cumulative effects of a particular pesticide's residues and “other substances that have a common mechanism of toxicity.” EPA conducted a screening-level assessment to evaluate the sulfonylureas (SUs), of which tribenuron methyl is a member. Although the SUs share some chemical and toxicological characteristics, the toxicological database does not support a testable hypothesis for a common mechanism of action. No further mechanistic data are required, and no further cumulative evaluation is necessary for tribenuron methyl.

D. Safety Factor for Infants and Children

1. In general. Section 408(b)(2)(C) of FFDCA provides that EPA shall apply an additional tenfold (10X) margin of safety for infants and children in the case of threshold effects to account for prenatal and postnatal toxicity and the completeness of the database on toxicity and exposure unless EPA determines, based on reliable data, that a different margin of safety will be safe for infants and children. This additional margin of safety is commonly referred to as the Food Quality Protection Act (FQPA) Safety Factor (SF). In applying this provision, EPA either retains the default value of 10X, or uses a different additional safety factor when reliable data available to EPA support the choice of a different factor.

2. Prenatal and postnatal sensitivity. No evidence of increased quantitative or qualitative susceptibility of the young was seen in developmental or reproduction studies with tribenuron methyl. In the rat developmental study, decreased fetal weights were observed at the mid dose while increased resorptions, mortality, and incomplete ossification were seen in the maternal animals at the high dose. In the rabbit developmental study, decreased fetal weights and abortions were observed at the same dose. In both developmental studies, fetal effects were observed in the presence of comparable maternal toxicity. In the rat reproduction study, offspring effects were limited to decreased body weights and spleen weights in pups observed in the presence of comparable parental toxicity.

3. Conclusion. EPA has determined that reliable data show the safety of infants and children would be adequately protected if the FQPA SF of 10X were reduced to 1X for all exposure scenarios. This decision is based on the following findings:

i. The toxicology database for tribenuron methyl is complete and adequate for FQPA evaluation. Studies available to inform the FQPA SF include developmental studies in rats and rabbits, a two-generation reproduction study in rats, and acute and subchronic neurotoxicity studies in rats.

ii. There is no concern for neurotoxicity. The only effects suggestive of neurotoxicity were transient changes in motor activity and rearing behavior observed at the limit dose in the acute neurotoxicity study; however, these effects are considered secondary to systemic effects observed in the study and are therefore not of concern. A developmental neurotoxicity study is not required.

iii. No evidence of increased quantitative or qualitative susceptibility was seen in rat and rabbit developmental toxicity and rat reproduction studies; fetal/offspring effects were observed in the presence of comparable maternal/parental toxicity, and the PODs selected for risk assessment are protective of these effects.

iv. Exposure to tribenuron methyl will not be underestimated due to the conservative nature of the dietary exposure assessments (tolerance-level residues, high end drinking water estimates, and 100% crop treated assumptions). There are no residential uses.

E. Aggregate Risks and Determination of Safety

EPA determines whether acute and chronic dietary pesticide exposures are safe by comparing aggregate exposure estimates to the acute PAD (aPAD) and chronic PAD (cPAD). For linear cancer risks, EPA calculates the lifetime probability of acquiring cancer given the estimated aggregate exposure. Short-, intermediate-, and chronic-term risks are evaluated by comparing the estimated aggregate food, water, and residential exposure to the appropriate PODs to ensure that an adequate MOE exists.

1. Acute risk. An acute aggregate risk assessment takes into account acute exposure estimates from dietary consumption of food and drinking water. Using the exposure assumptions discussed in this unit for acute exposure, the acute dietary exposure from food and water to tribenuron methyl will occupy less than 1% of the aPAD for all infants less than 1-year old, the population group receiving the greatest exposure.

2. Chronic risk. Using the exposure assumptions described in this unit for chronic exposure, EPA has concluded that chronic exposure to tribenuron methyl from food and water will utilize 24% of the cPAD for infants less than 1-year old, the population subgroup receiving the greatest exposure.

3. Short-term/Intermediate-term risk. Short- and intermediate-term aggregate exposure takes into account short- and intermediate-term residential exposure plus chronic exposure to food and water (considered to be a background exposure level). A short-term and an intermediate-term adverse effect were identified; however, tribenuron methyl is not registered for any use patterns that would result in short- or intermediate-term residential exposure. Short- and intermediate-term risk is assessed based on short- and intermediate-term residential exposure plus chronic dietary exposure. Because there is no short- or intermediate-term residential exposure and chronic dietary exposure has already been assessed under the appropriately protective cPAD (which is at least as protective as the POD used to assess short- or intermediate-term risk), no further assessment of short- or intermediate-term risk is necessary, and EPA relies on the chronic dietary risk assessment for evaluating short- and intermediate-term risk for tribenuron methyl.

4. Aggregate cancer risk for U.S. population. As explained in Unit III.A., risk assessments based on the endpoint selected for chronic risk assessment are considered to be protective of any potential carcinogenic risk from exposure to tribenuron methyl. Based on the results of the chronic risk assessment discussed above in Unit III.E.2., EPA concludes that tribenuron methyl is not expected to pose a cancer risk.

5. Determination of safety. Based on these risk assessments, EPA concludes that there is a reasonable certainty that no harm will result to the general population, or to infants and children from aggregate exposure to tribenuron methyl residues.

IV. Other Considerations

A. Analytical Enforcement Methodology

Adequate enforcement methodology (high-performance liquid chromatography with photo-conductivity detection (HPLC/PC) method, Method AMR 337-85 (Revision A)), is available to enforce the tolerances for residues of tribenuron methyl in forage, grain and straw commodities. To enforce tolerances for residues of tribenuron methyl in canola, corn grain, cotton, flax, sorghum grain, and soybean seed commodities, a liquid chromatography with mass-spectrometric detection (LC/MS) method, DuPont Method 1381 is available to enforce the tolerance expression. The methods may be requested from: Chief, Analytical Chemistry Branch, Environmental Science Center, 701 Mapes Rd., Ft. Meade, MD 20755-5350; telephone number: (410) 305-2905; email address: residuemethods@epa.gov.

B. International Residue Limits

In making its tolerance decisions, EPA seeks to harmonize U.S. tolerances with international standards whenever possible, consistent with U.S. food safety standards and agricultural practices. EPA considers the international maximum residue limits (MRLs) established by the Codex Alimentarius Commission (Codex), as required by FFDCA section 408(b)(4). There are no Codex MRLs for residues of tribenuron methyl.

C. Revisions to Petitioned-For Tolerances

Commodity definitions were revised to be consistent with EPA's commodity vocabulary. Revisions were made for many of the individual commodities in the proposed subgroups 6-XXE: Dried shelled bean, except soybean subgroup and 6-XXF: Dried shelled pea subgroup, respectively. Additionally, commodity definitions were revised for the cram-cram and princess-feather commodities.

V. Conclusion

Therefore, tolerances are established for residues of tribenuron methyl in or on the following commodities: Amaranth, grain, forage at 0.3 ppm; Amaranth, grain, grain at 0.05 ppm; Amaranth, grain, hay at 0.5 ppm; Amaranth, grain, straw at 0.1 ppm; Amaranth, purple, forage at 0.3 ppm; Amaranth, purple, grain at 0.05 ppm; Amaranth, purple, hay at 0.5 ppm; Amaranth, purple, straw at 0.1 ppm; Bean, adzuki, dry seed at 0.01 ppm; Bean, American potato, dry seed at 0.01 ppm; Bean, asparagus, dry seed at 0.01 ppm; Bean, black, dry seed at 0.01 ppm; Bean, broad, dry seed at 0.01 ppm; Bean, catjang, dry seed at 0.01 ppm; Bean, cranberry, dry seed at 0.01 ppm; Bean, dry, dry seed at 0.01 ppm; Bean, field, dry seed at 0.01 ppm; Bean, French, dry seed at 0.01 ppm; Bean, garden, dry seed at 0.01 ppm; Bean, goa, dry seed at 0.01 ppm; Bean, great northern, dry seed at 0.01 ppm; Bean, green, dry seed at 0.01 ppm; Bean, guar, dry seed at 0.01 ppm; Bean, kidney, dry seed at 0.01 ppm; Bean, lablab, dry seed at 0.01 ppm; Bean, lima, dry seed at 0.01 ppm; Bean, morama, dry seed at 0.01 ppm; Bean, moth, dry seed at 0.01 ppm; Bean, mung, dry seed at 0.01 ppm; Bean, navy, dry seed at 0.01 ppm; Bean, pink, dry seed at 0.01 ppm; Bean, pinto, dry seed at 0.01 ppm; Bean, red, dry seed at 0.01 ppm; Bean, rice, dry seed at 0.01 ppm; Bean, scarlet runner, dry seed at 0.01 ppm; Bean, sword, dry seed at 0.01 ppm; Bean, tepary, dry seed at 0.01 ppm; Bean, urd, dry seed at 0.01 ppm; Bean, yardlong, dry seed at 0.01 ppm; Bean, yellow, dry seed at 0.01 ppm; Buckwheat, grain at 0.05 ppm; Buckwheat, hay at 0.4 ppm; Buckwheat, straw at 0.1 ppm; Buckwheat, tartary, grain at 0.05 ppm; Buckwheat, tartary, hay at 0.4 ppm; Buckwheat, tartary, straw at 0.1 ppm; Canarygrass, annual, grain at 0.05 ppm; Canarygrass, annual, hay at 0.4 ppm; Canarygrass, annual, straw at 0.1 ppm; Cañihua, forage at 0.3 ppm; Cañihua, grain at 0.05 ppm; Cañihua, hay at 0.5 ppm; Cañihua, straw at 0.1 ppm; Chia, forage at 0.3 ppm; Chia, grain at 0.05 ppm; Chia, hay at 0.5 ppm; Chia, straw at 0.1 ppm; Chickpea, dry seed at 0.01 ppm; Cottonseed subgroup 20C at 0.02 ppm; Cowpea, dry seed at 0.01 ppm; Cram-cram, forage at 0.3 ppm; Cram-cram, grain at 0.05 ppm; Cram-cram, hay at 0.5 ppm; Cram-cram, straw at 0.1 ppm; Fonio, black, forage at 0.05 ppm; Fonio, black, grain at 0.05 ppm; Fonio, black, stover at 0.05 ppm; Fonio, white, forage at 0.05 ppm; Fonio, white, grain at 0.05 ppm; Fonio, white, stover at 0.05 ppm; Gram, horse, dry seed at 0.01 ppm; Huauzontle, grain, forage at 0.3 ppm; Huauzontle, grain, grain at 0.05 ppm; Huauzontle, grain, hay at 0.5 ppm; Huauzontle, grain, straw at 0.1 ppm; Inca wheat, forage at 0.3 ppm; Inca wheat, grain at 0.05 ppm; Inca wheat, hay at 0.5 ppm; Inca wheat, straw at 0.1 ppm; Jackbean, dry seed at 0.01 ppm; Job's tears, forage at 0.05 ppm; Job's tears, grain at 0.05 ppm; Job's tears, stover at 0.05 ppm; Lentil, dry seed at 0.01 ppm; Longbean, Chinese, dry seed at 0.01 ppm; Lupin, Andean, dry seed at 0.01 ppm; Lupin, blue, dry seed at 0.01 ppm; Lupin, grain, dry seed at 0.01 ppm; Lupin, sweet, dry seed at 0.01 ppm; Lupin, white, dry seed at 0.01 ppm; Lupin, white sweet, dry seed at 0.01 ppm; Lupin, yellow, dry seed at 0.01 ppm; Millet, barnyard, forage at 0.05 ppm; Millet, barnyard, grain at 0.05 ppm; Millet, barnyard, stover at 0.05 ppm; Millet, finger, forage at 0.05 ppm; Millet, finger, grain at 0.05 ppm; Millet, finger, stover at 0.05 ppm; Millet, foxtail, forage at 0.05 ppm; Millet, foxtail, grain at 0.05 ppm; Millet, foxtail, stover at 0.05 ppm; Millet, little, forage at 0.05 ppm; Millet, little, grain at 0.05 ppm; Millet, little, stover at 0.05 ppm; Millet, pearl, forage at 0.05 ppm; Millet, pearl, grain at 0.05 ppm; Millet, pearl, stover at 0.05 ppm; Millet, proso, forage at 0.05 ppm; Millet, proso, grain at 0.05 ppm; Millet, proso, stover at 0.05 ppm; Oat, Abyssinian, grain at 0.05 ppm; Oat, Abyssinian, hay at 0.4 ppm; Oat, Abyssinian, straw at 0.1 ppm; Oat, common, grain at 0.05 ppm; Oat, common, hay at 0.4 ppm; Oat, common, straw at 0.1 ppm; Oat, naked, grain at 0.05 ppm; Oat, naked, hay at 0.4 ppm; Oat, naked, straw at 0.1 ppm; Oat, sand, grain at 0.05 ppm; Oat, sand, hay at 0.4 ppm; Oat, sand, straw at 0.1 ppm; Pea, blackeyed, dry seed at 0.01 ppm; Pea, crowder, dry seed at 0.01 ppm; Pea, dry, dry seed at 0.01 ppm; Pea, field, dry seed at 0.01 ppm; Pea, field, hay at 0.01 ppm; Pea, field, vines at 0.01 ppm; Pea, garden, dry seed at 0.01 ppm; Pea, grass, dry seed at 0.01 ppm; Pea, green, dry seed at 0.01 ppm; Pea, pigeon, dry seed at 0.01 ppm; Pea, southern, dry seed at 0.01 ppm; Pea, winged, dry seed at 0.01 ppm; Popcorn, forage at 0.15 ppm; Popcorn, grain at 0.01 ppm; Popcorn, stover at 1.1 ppm; Princess-feather, forage at 0.3 ppm; Princess-feather, grain at 0.05 ppm; Princess-feather, hay at 0.5 ppm; Princess-feather, straw at 0.1 ppm; Psyllium, forage at 0.3 ppm; Psyllium, grain at 0.05 ppm; Psyllium, hay at 0.5 ppm; Psyllium, straw at 0.1 ppm; Psyllium, blond, forage at 0.3 ppm; Psyllium, blond, grain at 0.05 ppm; Psyllium, blond, hay at 0.5 ppm; Psyllium, blond, straw at 0.1 ppm; Quinoa, forage at 0.3 ppm; Quinoa, grain at 0.05 ppm; Quinoa, hay at 0.5 ppm; Quinoa, straw at 0.1 ppm; Rapeseed subgroup 20A at 0.02 ppm; Rice, African, grain at 0.05 ppm; Rye, forage at 0.3 ppm; Rye, grain at 0.05 ppm; Rye, hay at 0.5 ppm; Rye, straw at 0.1 ppm; Soybean, vegetable, dry seed at 0.01 ppm; Teff, forage at 0.05 ppm; Teff, grain at 0.05 ppm; Teff, stover at 0.05 ppm; Teosinte, forage at 0.15 ppm; Teosinte, grain at 0.01 ppm; Teosinte, stover at 1.1 ppm; Triticale, forage at 0.3 ppm; Triticale, grain at 0.05 ppm; Triticale, hay at 0.5 ppm; Triticale, straw at 0.1 ppm; Velvetbean, dry seed at 0.01 ppm; Wheat, club, forage at 0.3 ppm; Wheat, club, grain at 0.05 ppm; Wheat, club, hay at 0.5 ppm; Wheat, club, straw at 0.1 ppm; Wheat, common, forage at 0.3 ppm; Wheat, common, grain at 0.05 ppm; Wheat, common, hay at 0.5 ppm; Wheat, common, straw at 0.1 ppm; Wheat, durum, forage at 0.3 ppm; Wheat, durum, grain at 0.05 ppm; Wheat, durum, hay at 0.5 ppm; Wheat, durum, straw at 0.1 ppm; Wheat, einkorn, forage at 0.3 ppm; Wheat, einkorn, grain at 0.05 ppm; Wheat, einkorn, hay at 0.5 ppm; Wheat, einkorn, straw at 0.1 ppm; Wheat, emmer, forage at 0.3 ppm; Wheat, emmer, grain at 0.05 ppm; Wheat, emmer, hay at 0.5 ppm; Wheat, emmer, straw at 0.1 ppm; Wheat, macha, forage at 0.3 ppm; Wheat, macha, grain at 0.05 ppm; Wheat, macha, hay at 0.5 ppm; Wheat, macha, straw at 0.1 ppm; Wheat, oriental, forage at 0.3 ppm; Wheat, oriental, grain at 0.05 ppm; Wheat, oriental, hay at 0.5 ppm; Wheat, oriental, straw at 0.1 ppm; Wheat, Persian, forage at 0.3 ppm; Wheat, Persian, grain at 0.05 ppm; Wheat, Persian, hay at 0.5 ppm; Wheat, Persian, straw at 0.1 ppm; Wheat, Polish, forage at 0.3 ppm; Wheat, Polish, grain at 0.05 ppm; Wheat, Polish, hay at 0.5 ppm; Wheat, Polish, straw at 0.1 ppm; Wheat, poulard, forage at 0.3 ppm; Wheat, poulard, grain at 0.05 ppm; Wheat, poulard, hay at 0.5 ppm; Wheat, poulard, straw at 0.1 ppm; Wheat, shot, forage at 0.3 ppm; Wheat, shot, grain at 0.05 ppm; Wheat, shot, hay at 0.5 ppm; Wheat, shot, straw at 0.1 ppm; Wheat, spelt, forage at 0.3 ppm; Wheat, spelt, grain at 0.05 ppm; Wheat, spelt, hay at 0.5 ppm; Wheat, spelt, straw at 0.1 ppm; Wheat, timopheevi, forage at 0.3 ppm; Wheat, timopheevi, grain at 0.05 ppm; Wheat, timopheevi, hay at 0.5 ppm; Wheat, timopheevi, straw at 0.1 ppm; Wheat, vavilovi, forage at 0.3 ppm; Wheat, vavilovi, grain at 0.05 ppm; Wheat, vavilovi, hay at 0.5 ppm; Wheat, vavilovi, straw at 0.1 ppm; Wheat, wild einkorn, forage at 0.3 ppm; Wheat, wild einkorn, grain at 0.05 ppm; Wheat, wild einkorn, hay at 0.5 ppm; Wheat, wild einkorn, straw at 0.1 ppm; Wheat, wild emmer, forage at 0.3 ppm; Wheat, wild emmer, grain at 0.05 ppm; Wheat, wild emmer, hay at 0.5 ppm; Wheat, wild emmer, straw at 0.1 ppm; Wheatgrass, intermediate, forage at 0.3 ppm; Wheatgrass, intermediate, grain at 0.05 ppm; Wheatgrass, intermediate, hay at 0.5 ppm; Wheatgrass, intermediate, straw at 0.1 ppm; Wild rice, grain at 0.05 ppm; Wild rice, eastern, grain at 0.05 ppm; and Yam bean, African, dry seed at 0.01 ppm.

In addition, EPA is revising the tolerance for oat, hay from 0.05 ppm to 0.4 ppm to align with the hay tolerances for other cereal grain commodities established under 40 CFR 180.451 as requested by IR-4.

Finally, EPA is removing the established tolerances for residues of tribenuron methyl in or on the following individual raw agricultural commodities as they are redundant with the established crop subgroup tolerances being established in this rulemaking: Canola, seed at 0.02 ppm, Cotton, gin byproducts at 0.02 ppm, Cotton, undelinted seed at 0.02 ppm and Flax, seed at 0.02 ppm.

VI. Statutory and Executive Order Reviews

This action establishes tolerances under FFDCA section 408(d) in response to a petition submitted to the Agency. The Office of Management and Budget (OMB) has exempted these types of actions from review under Executive Order 12866, entitled “Regulatory Planning and Review” (58 FR 51735, October 4, 1993). Because this action has been exempted from review under Executive Order 12866, this action is not subject to Executive Order 13211, entitled “Actions Concerning Regulations That Significantly Affect Energy Supply, Distribution, or Use” (66 FR 28355, May 22, 2001) or Executive Order 13045, entitled “Protection of Children from Environmental Health Risks and Safety Risks” (62 FR 19885, April 23, 1997). This action does not contain any information collections subject to OMB approval under the Paperwork Reduction Act (PRA) (44 U.S.C. 3501 et seq.), nor does it require any special considerations under Executive Order 12898, entitled “Federal Actions to Address Environmental Justice in Minority Populations and Low-Income Populations” (59 FR 7629, February 16, 1994).

Since tolerances and exemptions that are established on the basis of a petition under FFDCA section 408(d), such as the tolerances in this final rule, do not require the issuance of a proposed rule, the requirements of the Regulatory Flexibility Act (RFA) (5 U.S.C. 601 et seq.), do not apply.

This action directly regulates growers, food processors, food handlers, and food retailers, not States or Tribes, nor does this action alter the relationships or distribution of power and responsibilities established by Congress in the preemption provisions of FFDCA section 408(n)(4). As such, the Agency has determined that this action will not have a substantial direct effect on States or Tribal Governments, on the relationship between the National Government and the States or Tribal Governments, or on the distribution of power and responsibilities among the various levels of government or between the Federal Government and Indian Tribes. Thus, the Agency has determined that Executive Order 13132, entitled “Federalism” (64 FR 43255, August 10, 1999) and Executive Order 13175, entitled “Consultation and Coordination with Indian Tribal Governments” (65 FR 67249, November 9, 2000) do not apply to this action. In addition, this action does not impose any enforceable duty or contain any unfunded mandate as described under Title II of the Unfunded Mandates Reform Act (UMRA) (2 U.S.C. 1501 et seq.).

This action does not involve any technical standards that would require Agency consideration of voluntary consensus standards pursuant to section 12(d) of the National Technology Transfer and Advancement Act (NTTAA) (15 U.S.C. 272 note).

VII. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 180

Environmental protection, Administrative practice and procedure, Agricultural commodities, Pesticides and pests, Reporting and recordkeeping requirements.

Dated: July 8, 2022.
Marietta Echeverria,
Acting Director, Registration Division, Office of Pesticide Programs.

Therefore, for the reasons stated in the preamble, EPA is amending 40 CFR chapter I as follows:

PART 180—TOLERANCES AND EXEMPTIONS FOR PESTICIDE CHEMICAL RESIDUES IN FOOD

1. The authority citation for part 180 continues to read as follows:

Authority: 21 U.S.C. 321(q), 346a and 371.

2. In § 180.451, amend paragraph (a) by revising the table to read as follows:

§ 180.451 Tribenuron methyl; tolerances for residues.

(a) * * *

Table 1 to Paragraph (a)
Commodity | Parts per million
Amaranth, grain, forage | 0.3
Amaranth, grain, grain | 0.05
Amaranth, grain, hay | 0.5
Amaranth, grain, straw | 0.1
Amaranth, purple, forage | 0.3
Amaranth, purple, grain | 0.05
Amaranth, purple, hay | 0.5
Amaranth, purple, straw | 0.1
Barley, grain | 0.05
Barley, hay | 0.4
Barley, straw | 0.10
Bean, adzuki, dry seed | 0.01
Bean, American potato, dry seed | 0.01
Bean, asparagus, dry seed | 0.01
Bean, black, dry seed | 0.01
Bean, broad, dry seed | 0.01
Bean, catjang, dry seed | 0.01
Bean, cranberry, dry seed | 0.01
Bean, dry, dry seed | 0.01
Bean, field, dry seed | 0.01
Bean, French, dry seed | 0.01
Bean, garden, dry seed | 0.01
Bean, goa, dry seed | 0.01
Bean, great northern, dry seed | 0.01
Bean, green, dry seed | 0.01
Bean, guar, dry seed | 0.01
Bean, kidney, dry seed | 0.01
Bean, lablab, dry seed | 0.01
Bean, lima, dry seed | 0.01
Bean, morama, dry seed | 0.01
Bean, moth, dry seed | 0.01
Bean, mung, dry seed | 0.01
Bean, navy, dry seed | 0.01
Bean, pink, dry seed | 0.01
Bean, pinto, dry seed | 0.01
Bean, red, dry seed | 0.01
Bean, rice, dry seed | 0.01
Bean, scarlet runner, dry seed | 0.01
Bean, sword, dry seed | 0.01
Bean, tepary, dry seed | 0.01
Bean, urd, dry seed | 0.01
Bean, yardlong, dry seed | 0.01
Bean, yellow, dry seed | 0.01
Buckwheat, grain | 0.05
Buckwheat, hay | 0.4
Buckwheat, straw | 0.1
Buckwheat, tartary, grain | 0.05
Buckwheat, tartary, hay | 0.4
Buckwheat, tartary, straw | 0.1
Canarygrass, annual, grain | 0.05
Canarygrass, annual, hay | 0.4
Canarygrass, annual, straw | 0.1
Cañihua, forage | 0.3
Cañihua, grain | 0.05
Cañihua, hay | 0.5
Cañihua, straw | 0.1
Chia, forage | 0.3
Chia, grain | 0.05
Chia, hay | 0.5
Chia, straw | 0.1
Chickpea, dry seed | 0.01
Corn, field, forage | 0.15
Corn, field, grain | 0.01
Corn, field, stover | 1.1
Cottonseed subgroup 20C | 0.02
Cowpea, dry seed | 0.01
Cram-cram, forage | 0.3
Cram-cram, grain | 0.05
Cram-cram, hay | 0.5
Cram-cram, straw | 0.1
Fonio, black, forage | 0.05
Fonio, black, grain | 0.05
Fonio, black, stover | 0.05
Fonio, white, forage | 0.05
Fonio, white, grain | 0.05
Fonio, white, stover | 0.05
Grain, aspirated fractions | 1.5
Gram, horse, dry seed | 0.01
Huauzontle, grain, forage | 0.3
Huauzontle, grain, grain | 0.05
Huauzontle, grain, hay | 0.5
Huauzontle, grain, straw | 0.1
Inca wheat, forage | 0.3
Inca wheat, grain | 0.05
Inca wheat, hay | 0.5
Inca wheat, straw | 0.1
Jackbean, dry seed | 0.01
Job's tears, forage | 0.05
Job's tears, grain | 0.05
Job's tears, stover | 0.05
Lentil, dry seed | 0.01
Longbean, Chinese, dry seed | 0.01
Lupin, Andean, dry seed | 0.01
Lupin, blue, dry seed | 0.01
Lupin, grain, dry seed | 0.01
Lupin, sweet, dry seed | 0.01
Lupin, white, dry seed | 0.01
Lupin, white sweet, dry seed | 0.01
Lupin, yellow, dry seed | 0.01
Millet, barnyard, forage | 0.05
Millet, barnyard, grain | 0.05
Millet, barnyard, stover | 0.05
Millet, finger, forage | 0.05
Millet, finger, grain | 0.05
Millet, finger, stover | 0.05
Millet, foxtail, forage | 0.05
Millet, foxtail, grain | 0.05
Millet, foxtail, stover | 0.05
Millet, little, forage | 0.05
Millet, little, grain | 0.05
Millet, little, stover | 0.05
Millet, pearl, forage | 0.05
Millet, pearl, grain | 0.05
Millet, pearl, stover | 0.05
Millet, proso, forage | 0.05
Millet, proso, grain | 0.05
Millet, proso, stover | 0.05
Oat, Abyssinian, grain | 0.05
Oat, Abyssinian, hay | 0.4
Oat, Abyssinian, straw | 0.1
Oat, common, grain | 0.05
Oat, common, hay | 0.4
Oat, common, straw | 0.1
Oat, forage | 0.05
Oat, grain | 0.05
Oat, hay | 0.4
Oat, naked, grain | 0.05
Oat, naked, hay | 0.4
Oat, naked, straw | 0.1
Oat, sand, grain | 0.05
Oat, sand, hay | 0.4
Oat, sand, straw | 0.1
Oat, straw | 0.10
Pea, blackeyed, dry seed | 0.01
Pea, crowder, dry seed | 0.01
Pea, dry, dry seed | 0.01
Pea, field, dry seed | 0.01
Pea, field, hay | 0.01
Pea, field, vines | 0.01
Pea, garden, dry seed | 0.01
Pea, grass, dry seed | 0.01
Pea, green, dry seed | 0.01
Pea, pigeon, dry seed | 0.01
Pea, southern, dry seed | 0.01
Pea, winged, dry seed | 0.01
Popcorn, forage | 0.15
Popcorn, grain | 0.01
Popcorn, stover | 1.1
Princess-feather, forage | 0.3
Princess-feather, grain | 0.05
Princess-feather, hay | 0.5
Princess-feather, straw | 0.1
Psyllium, forage | 0.3
Psyllium, grain | 0.05
Psyllium, hay | 0.5
Psyllium, straw | 0.1
Psyllium, blond, forage | 0.3
Psyllium, blond, grain | 0.05
Psyllium, blond, hay | 0.5
Psyllium, blond, straw | 0.1
Quinoa, forage | 0.3
Quinoa, grain | 0.05
Quinoa, hay | 0.5
Quinoa, straw | 0.1
Rapeseed subgroup 20A | 0.02
Rice, grain | 0.05
Rice, African, grain | 0.05
Rye, forage | 0.3
Rye, grain | 0.05
Rye, hay | 0.5
Rye, straw | 0.1
Sorghum, grain, forage | 0.05
Sorghum, grain, grain | 0.05
Sorghum, grain, stover | 0.05
Soybean, forage | 0.07
Soybean, hay | 0.35
Soybean, hulls | 0.04
Soybean, seed | 0.01
Soybean, vegetable, dry seed | 0.01
Sunflower, seed | 0.05
Teff, forage | 0.05
Teff, grain | 0.05
Teff, stover | 0.05
Teosinte, forage | 0.15
Teosinte, grain | 0.01
Teosinte, stover | 1.1
Triticale, forage | 0.3
Triticale, grain | 0.05
Triticale, hay | 0.5
Triticale, straw | 0.1
Velvetbean, dry seed | 0.01
Wheat, forage | 0.3
Wheat, grain | 0.05
Wheat, hay | 0.5
Wheat, straw | 0.10
Wheat, club, forage | 0.3
Wheat, club, grain | 0.05
Wheat, club, hay | 0.5
Wheat, club, straw | 0.1
Wheat, common, forage | 0.3
Wheat, common, grain | 0.05
Wheat, common, hay | 0.5
Wheat, common, straw | 0.1
Wheat, durum, forage | 0.3
Wheat, durum, grain | 0.05
Wheat, durum, hay | 0.5
Wheat, durum, straw | 0.1
Wheat, einkorn, forage | 0.3
Wheat, einkorn, grain | 0.05
Wheat, einkorn, hay | 0.5
Wheat, einkorn, straw | 0.1
Wheat, emmer, forage | 0.3
Wheat, emmer, grain | 0.05
Wheat, emmer, hay | 0.5
Wheat, emmer, straw | 0.1
Wheat, macha, forage | 0.3
Wheat, macha, grain | 0.05
Wheat, macha, hay | 0.5
Wheat, macha, straw | 0.1
Wheat, oriental, forage | 0.3
Wheat, oriental, grain | 0.05
Wheat, oriental, hay | 0.5
Wheat, oriental, straw | 0.1
Wheat, Persian, forage | 0.3
Wheat, Persian, grain | 0.05
Wheat, Persian, hay | 0.5
Wheat, Persian, straw | 0.1
Wheat, Polish, forage | 0.3
Wheat, Polish, grain | 0.05
Wheat, Polish, hay | 0.5
Wheat, Polish, straw | 0.1
Wheat, poulard, forage | 0.3
Wheat, poulard, grain | 0.05
Wheat, poulard, hay | 0.5
Wheat, poulard, straw | 0.1
Wheat, shot, forage | 0.3
Wheat, shot, grain | 0.05
Wheat, shot, hay | 0.5
Wheat, shot, straw | 0.1
Wheat, spelt, forage | 0.3
Wheat, spelt, grain | 0.05
Wheat, spelt, hay | 0.5
Wheat, spelt, straw | 0.1
Wheat, timopheevi, forage | 0.3
Wheat, timopheevi, grain | 0.05
Wheat, timopheevi, hay | 0.5
Wheat, timopheevi, straw | 0.1
Wheat, vavilovi, forage | 0.3
Wheat, vavilovi, grain | 0.05
Wheat, vavilovi, hay | 0.5
Wheat, vavilovi, straw | 0.1
Wheat, wild einkorn, forage | 0.3
Wheat, wild einkorn, grain | 0.05
Wheat, wild einkorn, hay | 0.5
Wheat, wild einkorn, straw | 0.1
Wheat, wild emmer, forage | 0.3
Wheat, wild emmer, grain | 0.05
Wheat, wild emmer, hay | 0.5
Wheat, wild emmer, straw | 0.1
Wheatgrass, intermediate, forage | 0.3
Wheatgrass, intermediate, grain | 0.05
Wheatgrass, intermediate, hay | 0.5
Wheatgrass, intermediate, straw | 0.1
Wild rice, grain | 0.05
Wild rice, eastern, grain | 0.05
Yam bean, African, dry seed | 0.01

* * * * *

[FR Doc. 2022-15019 Filed 7-14-22; 8:45 am]

BILLING CODE 6560-50-P